ENVIRONMENTAL PROTECTION AGENCY

[Docket# EPA-RO4-SFUND-2008-0778, FRL-8741-2]

Former Spellman Engineering Site; Orlando, Orange County, FL; Notice of Settlements

AGENCY: Environmental Protection Agency.

ACTION: Notice of Settlements.

SUMMARY: Under Section 122(h)(1) of the Comprehensive Environmental Response, Compensation and Liability Act (CERCLA), the United States Environmental Protection Agency has entered into two settlements concerning the Former Spellman Engineering Site located in Orlando, Orange County, Florida for publication.

DATES: The Agency will consider public comments on the settlements until December 17, 2008. The Agency will consider all comments received and may modify or withdraw its consent to the settlements if comments received disclose facts or considerations which indicate that the settlements are inappropriate, improper, or inadequate.

ADDRESSES: Copies of the settlements are available from Ms. Paula V. Painter. Submit your comments, identified by Docket ID No. EPA-RO4-SFUND-2008-0778 or Site name Former Spellman Engineering Superfund Site by one of the following methods:

• http://www.regulations.gov: Follow the on-line instructions for submitting comments.

• E-mail: Painter.Paula@epa.gov.

• Fax: 404/562-8842/Attn Paula V. Painter.

FOR FURTHER INFORMATION CONTACT: Paula V. Painter at 404/562-8887.

Dated: October 15, 2008.
Anita L. Davis,
Chief, Superfund Enforcement & Information Management Branch, Superfund Division.

[FR Doc. E8-27200 Filed 11-14-08; 8:45 am]

BILLING CODE 6560-50-P